COMMITTEE FOR THE IMPLEMENTATION OF TEXTILE AGREEMENTS

Shipments of Cotton, Wool, Man-Made Fiber, Silk Blend and Other Vegetable Fiber Textiles and Apparel in Excess of Agreement Limits

June 22, 2004.

AGENCY: The Committee for the Implementation of Textile Agreements (CITA).

ACTION: Notice

FOR FURTHER INFORMATION CONTACT: Philip J. Martello, Director, Trade and Data Division, Office of Textiles and Apparel, U.S. Department of Commerce, (202) 482-3400.

SUPPLEMENTARY INFORMATION:

Authority: Executive Order 11651 of March 3, 1972, as amended; Section 204 of the Agricultural Act of 1956, as amended (7 U.S.C. 1854).

It has come to CITA's attention that some textile and apparel products may be shipped in excess of 2004 annual quota limits with the expectation that they will be allowed entry on January 1, 2005.

This notice serves to remind interested parties that charges against the limits subject to U.S. bilateral agreements, the Uruguay Round Agreements Act and the Uruguay Round Agreement on Textiles and Clothing (ATC) are by date of export and not date of entry. Shipments exported in 2004 in excess of agreed limits are in violation of the terms of these agreements.

The purpose of this notice is to advise the public that CITA reserves the right under the bilateral agreements, the Uruguay Round Agreements Act and the ATC to deny entry to goods that have been shipped in excess of 2004 limits; or to stage entry in 2005 to merchandise exported during 2004 which exceed the restraint limit(s) established for that period.

A properly completed visa, electronic visa (ELVIS) transmission, Guaranteed Access Level (GAL) certification, or exempt certification will be required for all shipments exported in 2004, regardless of the date of entry into the United States.

Textile and apparel goods that are the product of countries that are members of the World Trade Organization (WTO) and that are exported from the country of origin on or after January 1, 2005 will not require a visa, ELVIS transmission, GAL certification, or exempt certification to enter the United States. For goods that are the product of countries that are not members of the WTO, currently applicable requirements will remain in effect.

D. Michael Hutchinson,
Acting Chairman, Committee for the Implementation of Textile Agreements.

[FR Doc. 04-14494 Filed 6-24-04; 8:45 am]

BILLING CODE 3510-DR-S